MERIT SYSTEMS PROTECTION BOARD

Return to Normal Procedures-Filings With New York Field Office

AGENCY: U.S. Merit Systems Protection Board.

ACTION: Notice.

SUMMARY: Notice is hereby given that variations from the Boards normal case processing procedures at the New York Field Office as the result of the September 11, 2001 attacks on the World Trade Center are rescinded. The other variations in normal case processing procedures announced on September 26, 2001 remain in effect.

DATES: October 25, 2001.

FOR FURTHER INFORMATION CONTACT: Robert E. Taylor, (202) 653-7200.

SUPPLEMENTARY INFORMATION: By Federal Register Notice of September 26, 2001 (66 FR 49213) the Board announced variations in its normal case processing procedures. Specifically, filings due to the New York Field Office were to be made with the MSPB Northeastern Regional Office in Philadelphia, Pennsylvania. The New York Field Office is now open for business, however, admittance to the office, including for administrative hearings, must be approved in advance. The office is open to Federal employees with proper identification; non Federal employees must show identification and proof that they have an appointment. The address of the New York Field Office is: 26 Federal Plaza, Room 3137A, New York, New York 10278. The telephone number is (212) 264-9372 and the fax number is (212) 264-1417.

Dated: October 19, 2001.
Robert E. Taylor,
Clerk of the Board.

[FR Doc. 01-26797 Filed 10-24-01; 8:45 am]

BILLING CODE 7400-01-M